DEPARTMENT OF HOUSING AND URBAN DEVELOPMENT

[Docket No. FR-4900-FA-03]

Announcement of Funding Awards for Fiscal Year 2004 Community Development Work Study Program

AGENCY: Office of the Assistant Secretary for Policy Development and Research, HUD.

ACTION: Announcement of funding awards.

SUMMARY: In accordance with Section 102(a)(4)(C) of the Department of Housing and Urban Development Reform Act of 1989, this document notifies the public of funding awards for the Fiscal Year 2004 Community Development Work Study Program (CDWSP). The purpose of this document is to announce the names and addresses of the award winners and the amount of the awards to be used to attract economically disadvantaged and minority students to careers in community and economic development, community planning and community management, and to provide a cadre of well-qualified professionals to plan, implement, and administer local community development programs.

FOR FURTHER INFORMATION CONTACT: Susan Brunson, Office of University Partnerships, U.S. Department of Housing and Urban Development, Room 8106, 451 Seventh Street, SW., Washington, DC 20410, telephone (202) 708-3061, ext. 3852. To provide service for persons who are hearing- or speech-impaired, this number may be reached via TTY by dialing the Federal Information Relay Service on (800) 877-8399, or 202-708-1455. (Telephone numbers, other than the two “800” numbers, are not toll free.)

SUPPLEMENTARY INFORMATION: The CDWSP is administered by the Office of University Partnerships under the Assistant Secretary for Policy Development and Research. The Office of University Partnerships administers HUD's ongoing grant programs to institutions of higher education. These programs assist colleges and universities in bringing their traditional missions of teaching, research, service, and outreach to bear on the pressing local problems in their respective communities.

The CDWSP was enacted in the Housing and Community Development Act of 1988. (Earlier versions of the program were funded by the Community Development Block Grant Technical Assistance Program from 1982 through 1987 and the Comprehensive Planning Assistance Program from 1969 through 1981.) Eligible applicants include institutions of higher education having qualifying academic degrees, and Area-wide planning organizations and states that apply on behalf of such institutions. The CDWSP funds graduate programs only. Each participating institution of higher education is funded for a minimum of three and maximum of five students under the CDWSP. The CDWSP provides each participating student up to $9,000 per year for a work stipend (for internship-type work in community building) and $5,000 per year for tuition and additional support (for books and travel related to the academic program). Additionally, the CDWSP provides the participating institution of higher education with an administrative allowance of $1,000 per student per year.

The Catalog of Federal Domestic Assistance number for this program is 14.512.

On May 14, 2004 (69 FR 27123), HUD published a Notice of Funding Availability (NOFA) announcing the availability of $2.98 million in FY 2004 funds and $378,844 in previously unexpended funds for the CDWSP. The Department reviewed, evaluated and scored the applications received based on the criteria in the NOFA. As a result, HUD has funded the applications announced below, and in accordance with Section 102(a)(4)(C) of the Department of Housing and Urban Development Reform Act of 1989 (103 Stat. 1987, U.S.C. 3545), the Department is publishing details concerning the recipients of funding awards, as set forth below.

List of Awardees for Grant Assistance Under the FY 2004 Community Development Work Study Program Funding Competition, by Name, Address, Phone Number, Grant Amount and Number of Students Funded

Region One

1. Southern New Hampshire University, Dr. Nelly Lejter, (603) 644-3103, School of Community Economic Development, 2500 North River Road, Manchester, NH 03106. Grant: $90,000 to fund 3 students.

2. University of Massachusetts Lowell, Ms. Linda Concino, (978) 934-4723, Office of Research Administration, 600 Sufflok Street, 2nd Floor South, Lowell, MA 01854. Grant: $90,000 to fund 3 students.

3. University of Rhode Island, Dr. Marcia Feld, (401) 277-5235, Community Planning and Landscape Architecture, 70 Lower College Road, Kingston, RI 02881. Grant: $90,000 to fund 3 students.

Region Two

4. State University of New York at Buffalo, Ms. Marlene Casey, (716) 645-2977, 520 Lee Entrance, Suite 211-UB Commons, Amherst, NY 14228. Grant: $90,000 to fund 3 students.

Region Three

5. University of Pittsburgh, Dr. David Miller, (412) 648-7655, Graduate School of Public and International Affairs, 350 Thackeray Hall, Pittsburgh, PA 15260. Grant: $90,000 to fund 3 students.

6. West Virginia University, Dr. Christopher Plein, (304) 293-2614, Applied Social Sciences, 886 Chestnut Ridge Road, P.O. Box 6845, Morgantown, WV 26506. Grant: $90,000 to fund 3 students.

7. University of Pennsylvania, Dr. Eugenie Birch, (215) 898-8329, City and Regional Planning, 3451 Walnut Street P221 Franklin Building, Philadelphia, PA 19104. Grant: $90,000 to fund 3 students.

8. Metropolitan Washington Council of Governments, Mr. Calvin Smith, (202) 962-3326, Human Services, Planning and Public Safety, 777 North Capitol Street, NE., Suite 300, Washington, DC 20002. Grant: $270,000 to fund three institutions three students each.

9. Virginia Polytechnic Institute & State University, Ms. Natalie Hart, (540) 231-5578, Office of Sponsored Programs, 460 Turner Street, Suite 306, Blacksburg, VA 24060. Grant: $90,000 to fund 3 students.

10. University of Delaware, Dr. Leslie Cooksy, (302) 831-0765, College of Human Services, Education and Public Policy, 210 Hullihen Hall, Newark, DE 19716. Grant: $90,000 to fund 3 students.

Region Four

11. Clemson University, Dr. G. Cunningham, (864) 656-1587, Department of Planning and Landscape Architecture, 131 Lee Hall, Clemson, SC 29634. Grant: $90,000 to fund 3 students.

12. The University of Tennessee at Chattanooga, Dr. Deborah Arfken, (413) 425-5369, 615 McCallie Avenue, Chattanooga, TN 37377. Grant: $90,000 to fund 3 students.

13. Florida State University, Dr. Charles Connerly, (850) 644-8516, Department of Urban and Regional Planning, 97 South Woodward Avenue, Tallahassee, FL 32306. Grant: $90,000 to fund 3 students.

14. University of North Carolina at Greensboro, Dr. Kenneth Klase, (336) 256-0510, Department of Political Science, 1000 Spring Garden Street, Greensboro, NC 27402. Grant: $90,000 to fund 3 students.

Region Five

15. Indiana University, Professor Leda McIntye-Hall, (574) 520-4803, School of Public and Environmental Affairs, P.O. Box 1847, Bloomington, IN 47402. Grant: $90,000 to fund 3 students.

16. Michigan State University, Dr. Herb Norman, (517) 353-9054, Urban & Regional Planning Program, 301 Administration, East Lansing, MI 48824. Grant: $90,000 to fund 3 students.

17. Minnesota State University-Mankato, Dr. Anthony Filipovitch, (507) 389-5035, Urban & Regional Studies, 106 Morris Hall, Mankato, MN 56001. Grant: $90,000 to fund 3 students.

18. University of Illinois, Dr Curtis Winkle, (312) 996-2155, Urban Planning and Policy Program, MB 502, M/C551 809 S. Marshfield Avenue, Chicago, IL 60612. Grant: $90,000 to fund 3 students.

19. Southern Illinois University Edwardsville, Dr. T. R. Carr, (618) 650-3762, Public Administration and Policy Analysis, Campus Box 1046, Edwardsville, IL 62026. Grant: $90,000 to fund 3 students.

20. University of Cincinnati, Dr. David Varady, (513) 556-4943, College of Design, Architecture, Art & Planning, Edwards One, Suite 7148, P.O. Box 210627, Cincinnati, OH 45221. Grant: $90,000 to fund 3 students.

21. University of Minnesota, Ms. Tyra Darville, (612) 626-7634, Humphrey Institute of Public Affairs, 450 McNamara Center, 200 Oak Street, SE., Minneapolis, MN 55455. Grant: $90,000 to fund 3 students.

22. University of Wisconsin at Milwaukee, Dr Stephen Percy, (414) 299-5916, Graduate School, P.O. Box 340, Milwaukee, WI 53201. Grant: $90,000 to fund 3 students.

Region Six

23. North Central Texas Council of Governments, Mr. Eastland, (817) 695-9101, Executive Director's Office, P.O. Box 5888, Arlington TX, 76005. Grant: $270,000 to fund 3 students at each of 3 institutions.

Region Seven

24. University of Missouri-Kansas City, Ms. Robyne Turner, (816) 235-5243, 5100 Rockhill Road, Kansas City, MO 64110. Grant: $90,000 to fund 3 students.

25. University of Nebraska at Omaha, Dr. Russell Smith, (402) 554-3188, School of Public Administration, 6001 Dodge Street, Omaha, NE 68182. Grant: $90,000 to fund 3 students.

Region Nine

26. California Polytechnic State University Foundation, Mr. Michael Fish, (805) 756-2982, Sponsored Programs, One Grand Avenue, Building 38 Room 102, San Luis Obispo, CA 93407, Grant: $90,000 to fund 3 students.

27. University of California-Berkeley, Ms. Patricia Gates, (510) 642-8109, Institute of Urban & Regional Development, 336 Sproul Hall, MC5940, Berkeley, CA 94720. Grant: $90,000 to fund 3 students.

28. University of Southern California, Ms. Dion Jackson, (213) 740-6868, School of Policy, Planning and Development, University Park Campus, Los Angeles, CA 90089. Grant: $90,000 to fund 3 students.

Region 10

29. University of Washington, Ms. Patsy Rogers, (206) 221-3084, Evans School of Public Affairs, 109 Parrington Hall, Box 353055, Seattle, WA 98195. Grant: $90,000 to fund 3 students.

Dated: September 3, 2004.
Dennis C. Shea,
Assistant Secretary for Policy Development and Research.

[FR Doc. E4-2277 Filed 9-20-04; 8:45 am]

BILLING CODE 4210-27-P